DEPARTMENT OF COMMERCE

National Oceanic and Atmospheric Administration

50 CFR Part 253

[Docket No. 180220192-8192-01]

RIN 0648-BH82

Shipping Act, Merchant Marine, and Magnuson-Stevens Fishery Conservation and Management Act (Magnuson-Stevens Act) Provisions; Fishing Vessel, Fishing Facility and Individual Fishing Quota Lending Program

AGENCY: National Marine Fisheries Service (NMFS), National Oceanic and Atmospheric Administration (NOAA), Commerce.

ACTION: Proposed rule; withdrawal.

SUMMARY: The National Marine Fisheries Service (NMFS) withdraws a proposed rule proposing to implement Fisheries Finance Program (FFP) financing of the cost of constructing new fishing vessels. NMFS published the proposed rule in the Federal Register on November 2, 2018. After careful consideration, NMFS has decided that the proposed changes discussed in the proposed rule are not warranted at this time.

DATES: The proposed rule published on November 2, 2018 (83 FR 55137), is withdrawn as of March 31, 2020.

FOR FURTHER INFORMATION CONTACT: Elaine Saiz, NMFS, (301) 427-8752, elaine.saiz@noaa.gov.

SUPPLEMENTARY INFORMATION: In 2016, Congress passed section 302 of the Coast Guard Authorization Act of 2015, which included specific authority for the FFP to finance the construction of fishing vessels in a fishery that is managed under a limited access system. The proposed regulations provided guidance to implement this financing while also protecting fish resources.

NMFS published a proposed rule to implement the financing in the Federal Register on November 2, 2018, (83 FR 55137).

Following public comment and consultations with the President's Office of Management and Budget, NMFS again analyzed the effects of the proposed rule and decided that the changes covered in the proposed rule are not warranted at this time. Therefore, NMFS is withdrawing the proposed rule published in the Federal Register on November 2, 2018 (83 FR 55137).

Authority: 16 U.S.C. 1801 et seq.

Dated: March 23, 2020.
Samuel D. Rauch III,
Deputy Assistant Administrator for Regulatory Programs, National Marine Fisheries Service.

[FR Doc. 2020-06455 Filed 3-30-20; 8:45 am]

BILLING CODE 3510-22-P